ENVIRONMENTAL PROTECTION AGENCY

[Docket ID Numbers EPA-HQ-OECA-2009-0522 to 0537 and 0542 to 0545, FRL-8937-7]

Agency Information Collection Activities: Request for Comments on Twenty Proposed Information Collection Requests (ICRs)

AGENCY: Environmental Protection Agency (EPA).

ACTION: Notice.

SUMMARY: In compliance with the Paperwork Reduction Act (44 U.S.C. 3501 et seq.), this document announces that EPA is planning to submit the following twenty existing, approved, continuing Information Collection Requests (ICRs) to the Office of Management and Budget (OMB) for the purpose of renewing the ICRs. Before submitting the ICRs to OMB for review and approval, EPA is soliciting comments on specific aspects of the information collections as described under SUPPLEMENTARY INFORMATION.

DATES: Comments must be submitted on or before September 28, 2009.

ADDRESSES: Comments may be submitted electronically, by mail, or through hand delivery/courier service. Follow the detailed instructions as provided under SUPPLEMENTARY INFORMATION, section A.

FOR FURTHER INFORMATION CONTACT: The contact individuals for each ICR are listed under SUPPLEMENTARY INFORMATION, section II. C.

SUPPLEMENTARY INFORMATION:

A. How Can I Access the Docket and/or Submit Comments?

(1) Docket Access Instructions

EPA has established a public docket for the ICRs listed in the SUPPLEMENTARY INFORMATION, section II. B. The docket is available for online viewing at http://www.regulations.gov, or in person viewing at the Enforcement and Compliance Docket and Information Center (ECDIC), in the EPA Docket Center (EPA/DC), EPA West, Room 3334, 1301 Constitution Avenue, NW., Washington, DC. The EPA/DC Public Reading Room is open from 8 a.m. to 4:30 p.m., Monday through Friday, excluding legal holidays. The telephone number for the Reading Room is (202) 566-1744, and the telephone number for the Enforcement and Compliance Docket and Information Center (ECDIC) docket is (202) 566-1752.

Use http://www.regulations.gov to obtain a copy of the draft collection of information, submit or view public comments, access the index listing of the contents of the docket, and to access those documents in the public docket that are available electronically. When in the system, select “search,” then key in the docket ID number identified in this document.

(2) Instructions for Submitting Comments

Submit your comments by one of the following methods:

(a) Electronic Submission: Access http://www.regulations.gov and follow the on-line instructions for submitting comments.

(b) E-mail: docket.oeca@epa.gov.

(c) Fax: (202) 566-1511

(d) Mail: Enforcement and Compliance Docket and Information Center (ECDIC), Environmental Protection Agency, EPA Docket Center (EPA/DC), Mailcode: 2201T, 1200 Pennsylvania Avenue, NW., Washington, DC 20460.

(e) Hand Delivery: Enforcement and Compliance Docket and Information Center (ECDIC), Environmental Protection Agency, EPA Docket Center (EPA/DC), EPA West, Room 3334, 1301 Constitution Avenue, NW., Washington, DC. The EPA Docket Center is open from 8:30 a.m. to 4:30 p.m., Monday through Friday, excluding legal holidays. Deliveries are accepted only during the Docket Center's normal hours of operation, and special arrangements should be made for deliveries of boxed information.

Direct your comments to the specific docket listed in SUPPLEMENTARY INFORMATION, section II. B, and reference the OMB Control Number for the ICR. It is EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

B. What Information Is EPA Particularly Interested In?

Pursuant to section 3506(c)(2)(A) of the Paperwork Reduction Act (PRA), EPA is soliciting comments and information to enable it to:

(1) Evaluate whether the proposed collections of information are necessary for the proper performance of the functions of the Agency, including whether the information will have practical utility.

(2) Evaluate the accuracy of the Agency's estimates of the burdens of the proposed collections of information.

(3) Enhance the quality, utility, and clarity of the information to be collected.

(4) Minimize the burden of the collections of information on those who are to respond, including through the use of appropriate automated or electronic collection technologies or other forms of information technology, e.g., permitting electronic submission of responses.

C. What Should I Consider When I Prepare My Comments for EPA?

You may find the following suggestions helpful for preparing comments:

(1) Explain your views as clearly as possible and provide specific examples.

(2) Describe any assumptions that you used.

(3) Provide copies of any technical information and/or data you used that support your views.

(4) If you estimate potential burden or costs, explain how you arrived at the estimate that you provide.

(5) Offer alternative ways to improve the collection activity.

(6) Make sure to submit your comments by the deadline identified under DATES.

(7) To ensure proper receipt by EPA, be sure to identify the docket ID number assigned to this action in the subject line on the first page of your response. You may also provide the name, date, and Federal Register citation.

II. ICRs To Be Renewed

A. For All ICRs

The Agency computed the burden for each of the recordkeeping and reporting requirements applicable to the industry for the currently approved ICRs listed in this notice. Where applicable, the Agency identified specific tasks and made assumptions, while being consistent with the concept of the PRA.

Burden means the total time, effort, or financial resources expended by persons to generate, maintain, retain, or disclose or provide information to or for a Federal agency. This includes the time needed to review instructions to develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The listed ICRs address Clean Air Act information collection requirements in standards (i.e., regulations) which have mandatory recordkeeping and reporting requirements. Records collected under the New Source Performance Standards (NSPS) must be retained by the owner or operator for at least two years and the records collected under the National Emission Standards for Hazardous Air Pollutants (NESHAP) must be retained by the owner or operator for at least five years. In general, the required collections consist of emissions data and other information deemed not to be private.

In the absence of such information collection requirements, enforcement personnel would be unable to determine whether the standards are being met on a continuous basis as required by the Clean Air Act.

An Agency may not conduct or sponsor, and a person is not required to respond to, a collection of information, unless the Agency displays a currently valid OMB control number. The OMB control numbers for EPA's regulations under Title 40 of the Code of Federal Regulations are published in the Federal Register, or on the related collection instrument or form. The display of OMB control numbers for certain EPA regulations is consolidated at 40 CFR part 9.

B. What Information Collection Activity or ICR Does This Apply to?

In compliance with the Paperwork Reduction Act (44 U.S.C. 3501 et seq.), this notice announces that EPA is planning to submit the following twenty continuing Information Collection Requests (ICR) to the Office of Management and Budget (OMB):

(1) Docket ID Number: EPA-HQ-OECA-2009-0523.

Title: NSPS for Large Appliance Surface Coating (40 CFR part 60, Subpart SS).

ICR Numbers: EPA ICR Number 0659.11, OMB Control Number 2060-0108.

ICR Status: This ICR is scheduled to expire on October 31, 2009.

(2) Docket ID Number: EPA-HQ-OECA-2009-0529.

Title: NSPS for Synthetic Fiber Production Facilities (40 CFR part 60, Subpart HHH).

ICR Numbers: EPA ICR Number 1156.11, OMB Control Number 2060-0059.

ICR Status: This ICR is scheduled to expire on October 31, 2009.

(3) Docket ID Number: EPA-HQ-OECA-2009-0524.

Title: NSPS for Fossil Fuel Fired Steam Generating Units (40 CFR part 60, Subpart D).

ICR Numbers: EPA ICR Number 1052.09, OMB Control Number 2060-0026.

ICR Status: This ICR is scheduled to expire on January 31, 2010.

(4) Docket ID Number: EPA-HQ-OECA-2009-0536.

Title: Federal Emission Guidelines for Existing Municipal Solid Waste Landfills (40 CFR part 62, Subpart GGG).

ICR Numbers: EPA ICR Number 1893.05, OMB Control Number 2060-0430.

ICR Status: This ICR is scheduled to expire on January 31, 2010.

(5) Docket ID Number: EPA-HQ-OECA-2009-0533.

Title: NESHAP for the Secondary Lead Industry (40 CFR part 63, Subpart X).

ICR Numbers: EPA ICR Number 1686.07, OMB Control Number 2060-0296.

ICR Status: This ICR is scheduled to expire on January 31, 2010.

(6) Docket ID Number: EPA-HQ-OECA-2009-0528.

Title: NSPS for Industrial/Commercial/Institutional Steam Generating Units (40 CFR part 60, Subpart Db).

ICR Numbers: EPA ICR Number 1088.12, OMB Control Number 2060-0072.

ICR Status: This ICR is scheduled to expire on February 28, 2010.

(7) Docket ID Number: EPA-HQ-OECA-2009-0545.

Title: NESHAP Site Remediation (40 CFR part 63, Subpart GGGGG).

ICR Numbers: EPA ICR Number 2062.04, OMB Control Number 2060-0534.

ICR Status: This ICR is scheduled to expire on February 28, 2010.

(8) Docket ID Number: EPA-HQ-OECA-2009-0522.

Title: NESHAP for Primary Magnesium Refining (40 CFR part 63, Subpart TTTTT).

ICR Numbers: EPA ICR Number 2098.05, OMB Control Number 2060-0536.

ICR Status: This ICR is scheduled to expire on March 31, 2010.

(9) Docket ID Number: EPA-HQ-OECA-2009-0527.

Title: NSPS for Ammonium Sulfate Manufacturing Plants (40 CFR part 60, Subpart PP).

ICR Numbers: EPA ICR Number 1066.05, OMB Control Number 2060-0032.

ICR Status: This ICR is scheduled to expire on May 31, 2010.

(10) Docket ID Number: EPA-HQ-OECA-2009-0530.

Title: NSPS for Wool Fiberglass Insulation Manufacturing Plants (40 CFR part 60, Subpart PPP, and 40 CFR part 60, Subpart NNN).

ICR Numbers: EPA ICR Number 1160.09, OMB Control Number 2060-0114.

ICR Status: This ICR is scheduled to expire on May 31, 2010.

(11) Docket ID Number: EPA-HQ-OECA-2009-0537.

Title: NSPS for Commercial and Industrial Solid Waste Incineration Units (40 CFR part 60, Subpart CCCC).

ICR Numbers: EPA ICR Number 1926.05, OMB Control Number 2060-0450.

ICR Status: This ICR is scheduled to expire on May 31, 2010.

(12) Docket ID Number: EPA-HQ-OECA-2009-0525.

Title: NSPS for Nitric Acid Plants (40 CFR part 60, Subpart G).

ICR Numbers: EPA ICR Number 1056.10, OMB Control Number 2060-0019.

ICR Status: This ICR is scheduled to expire on May 31, 2010.

(13) Docket ID Number: EPA-HQ-OECA-2009-0535.

Title: NESHAP for Phosphoric Acid Manufacturing and Phosphate Fertilizers Production (40 CFR part 63, Subparts AA and BB).

ICR Numbers: EPA ICR Number 1790.05, OMB Control Number 2060-0361.

ICR Status: This ICR is scheduled to expire on June 30, 2010.

(14) Docket ID Number: EPA-HQ-OECA-2009-0542.

Title: Emission Guidelines for Commercial and Industrial Solid Waste Incineration Units (40 CFR part 60, Subpart DDDD).

ICR Numbers: EPA ICR Number 1927.05, OMB Control Number 2060-0451.

ICR Status: This ICR is scheduled to expire on June 30, 2010.

(15) Docket ID Number: EPA-HQ-OECA-2009-0531.

Title: NESHAP for Halogenated Solvent Cleaning (40 CFR part 63, Subpart T).

ICR Numbers: EPA ICR Number 1652.07, OMB Control Number 2060-0273.

ICR Status: This ICR is scheduled to expire on June 30, 2010.

(16) Docket ID Number: EPA-HQ-OECA-2009-0532.

Title: NESHAP for Magnetic Tape Manufacturing Operations (40 CFR part 63, Subpart EE).

ICR Numbers: EPA ICR Number 1678.07, OMB Control Number 2060-0326.

ICR Status: This ICR is scheduled to expire on June 30, 2010.

(17) Docket ID Number: EPA-HQ-OECA-2009-0543.

Title: NESHAP for Organic Liquids Distribution (40 CFR part 63, Subpart EEEE).

ICR Numbers: EPA ICR Number 1963.07, OMB Control Number 2060-0539.

ICR Status: This ICR is scheduled to expire on July 31, 2010.

(18) Docket ID Number: EPA-HQ-OECA-2009-0534.

Title: NESHAP for Off-Site Waste and Recovery Operations (40 CFR part 63, Subpart DD).

ICR Numbers: EPA ICR Number 1717.07, OMB Control Number 2060-0313.

ICR Status: This ICR is scheduled to expire on July 31, 2010.

(19) Docket ID Number: EPA-HQ-OECA-2009-0526.

Title: NSPS for Incinerators (40 CFR part 60, Subpart E).

ICR Numbers: EPA ICR Number 1058.10, OMB Control Number 2060-0040.

ICR Status: This ICR is scheduled to expire on July 31, 2010.

(20) Docket ID Number: EPA-HQ-OECA-2009-0544.

Title: NESHAP for Stationary Combustion Turbines (40 CFR part 63, Subpart YYYY).

ICR Numbers: EPA ICR Number 1967.04, OMB Control Number 2060-0540.

ICR Status: This ICR is scheduled to expire on September 30, 2010.

C. Contact Individuals for ICRs

(1) NSPS for Large Appliance Surface Coating (40 CFR part 60, Subpart SS); Robert C. Marshall, Jr. of the Office of Compliance at (202) 564-7021 or via e-mail to marshall.robert@epa.gov; EPA ICR Number 0659.11; OMB Control Number 2060-0108; expiration date October 31, 2009.

(2) NSPS for Synthetic Fiber Production Facilities (40 CFR part 60, Subpart HHH); Robert C. Marshall, Jr. of the Office of Compliance at (202) 564-7021 or via e-mail to marshall.robert@epa.gov; EPA ICR Number 1156.11; OMB Control Number 2060-0059; expiration date October 31, 2009.

(3) NSPS for Fossil Fuel Fired Steam Generating Units (40 CFR part 60, Subpart D); Robert C. Marshall, Jr. of the Office of Compliance at (202) 564-7021 or via e-mail to marshall.robert@epa.gov; EPA ICR Number 1052.09; OMB Control Number 2060-0026; expiration date January 31, 2010.

(4) Federal Emission Guidelines for Existing Municipal Solid Waste Landfills (40 CFR part 62, Subpart GGG); Robert C. Marshall, Jr. of the Office of Compliance at (202) 564-7021 or via e-mail to marshall.robert@epa.gov; EPA ICR Number 1893.05; OMB Control Number 2060-0430; expiration date January 31, 2010.

(5) NESHAP for the Secondary Lead Industry (40 CFR part 63, Subpart X); Robert C. Marshall, Jr. of the Office of Compliance at (202) 564-7021 or via e-mail to marshall.robert@epa.gov; EPA ICR Number 1686.07; OMB Control Number 2060-0296; expiration date January 31, 2010.

(6) NSPS for Industrial/Commercial/Institutional Steam Generating Units (40 CFR part 60, Subpart Db); Robert C. Marshall, Jr. of the Office of Compliance at (202) 564-7021 or via e-mail to marshall.robert@epa.gov; EPA ICR Number 1088.12; OMB Control Number 2060-0072; expiration date February 28, 2010.

(7) NESHAP Site Remediation (40 CFR part 63, Subpart GGGGG); Robert C. Marshall, Jr. of the Office of Compliance at (202) 564-7021 or via e-mail to marshall.robert@epa.gov; EPA ICR Number 2062.04; OMB Control Number 2060-0534; expiration date February 28, 2010.

(8) NESHAP for Primary Magnesium Refining (40 CFR part 63, Subpart TTTTT); Robert C. Marshall, Jr. of the Office of Compliance at (202) 564-7021 or via e-mail to marshall.robert@epa.gov; EPA ICR Number 2098.05; OMB Control Number 2060-0536; expiration date March 31, 2010.

(9) NSPS for Ammonium Sulfate Manufacturing Plants (40 CFR part 60, Subpart PP); Robert C. Marshall, Jr. of the Office of Compliance at (202) 564-7021 or via e-mail to marshall.robert@epa.gov; EPA ICR Number 1066.05; OMB Control Number 2060-0032; expiration date May 31, 2010.

(10) NSPS for Wool Fiberglass Insulation Manufacturing Plants (40 CFR part 60, Subpart PPP, and 40 CFR part 60, Subpart NNN); Robert C. Marshall, Jr. of the Office of Compliance at (202) 564-7021 or via e-mail to marshall.robert@epa.gov; EPA ICR Number 1160.09; OMB Control Number 2060-0114; expiration date May 31, 2010.

(11) NSPS for Commercial and Industrial Solid Waste Incineration Units (40 CFR part 60, Subpart CCCC); Robert C. Marshall, Jr. of the Office of Compliance at (202) 564-7021 or via e-mail to marshall.robert@epa.gov; EPA ICR Number 1926.05; OMB Control Number 2060-0450; expiration date May 31, 2010.

(12) NSPS for Nitric Acid Plants (40 CFR part 60, Subpart G); Robert C. Marshall, Jr. of the Office of Compliance at (202) 564-7021 or via e-mail to marshall.robert@epa.gov; EPA ICR Number 1056.10; OMB Control Number 2060-0019; expiration date May 31, 2010.

(13) NESHAP for Phosphoric Acid Manufacturing and Phosphate Fertilizers Production (40 CFR part 63, Subparts AA and BB); Robert C. Marshall, Jr. of the Office of Compliance at (202) 564-7021 or via e-mail to marshall.robert@epa.gov; EPA ICR Number 1790.05; OMB Control Number 2060-0361; expiration date June 30, 2010.

(14) Emission Guidelines for Commercial and Industrial Solid Waste Incineration Units (40 CFR part 60, Subpart DDDD); Robert C. Marshall, Jr. of the Office of Compliance at (202) 564-7021 or via e-mail to marshall.robert@epa.gov; EPA ICR Number 1927.05; OMB Control Number 2060-0451; expiration date June 30, 2010.

(15) NESHAP for Halogenated Solvent Cleaning (40 CFR part 63, Subpart T); Robert C. Marshall, Jr. of the Office of Compliance at (202) 564-7021 or via e-mail to marshall.robert@epa.gov; EPA ICR Number 1652.07; OMB Control Number 2060-0273; expiration date June 30, 2010.

(16) NESHAP for Magnetic Tape Manufacturing Operations (40 CFR part 63, Subpart EE); Robert C. Marshall, Jr. of the Office of Compliance at (202) 564-7021 or via e-mail to marshall.robert@epa.gov; EPA ICR Number 1678.07; OMB Control Number 2060-0326; expiration date June 30, 2010.

(17) NESHAP for Organic Liquids Distribution (40 CFR part 63, Subpart EEEE); Robert C. Marshall, Jr. of the Office of Compliance at (202) 564-7021 or via e-mail to marshall.robert@epa.gov; EPA ICR Number 1963.07; OMB Control Number 2060-0539; expiration date July 31, 2010.

(18) NESHAP for Off-Site Waste and Recovery Operations (40 CFR part 63, Subpart DD); Robert C. Marshall, Jr. of the Office of Compliance at (202) 564-7021 or via e-mail to marshall.robert@epa.gov; EPA ICR Number 1717.07; OMB Control Number 2060-0313; expiration date July 31, 2010.

(19) NSPS for Incinerators (40 CFR part 60, Subpart E); Robert C. Marshall, Jr. of the Office of Compliance at (202) 564-7021 or via e-mail to marshall.robert@epa.gov; EPA ICR Number 1058.10; OMB Control Number 2060-0040; expiration date July 31, 2010.

(20) NESHAP for Stationary Combustion Turbines (40 CFR part 63, Subpart YYYY); Robert C. Marshall, Jr. of the Office of Compliance at (202) 564-7021 or via e-mail to marshall.robert@epa.gov; EPA ICR Number 1967.04; OMB Control Number 2060-0540; expiration date September 30, 2010.

D. Information for Individual ICRs

(1) NSPS for Large Appliance Surface Coating (40 CFR part 60, Subpart SS); Docket ID Number EPA-HQ-OECA-2009-0523; EPA ICR Number 0659.11; OMB Control Number 2060-0108; expiration date October 31, 2009.

Affected Entities: Entities potentially affected by this action are the owners or operators of large appliance surface coating facilities.

Abstract: The affected entities are subject to the General Provisions of the NSPS at 40 CFR part 60, subpart A and any changes, or additions to the General Provisions specified at 40 CFR part 60, subpart SS.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 7 hours per response.

Respondents/Affected Entities: Large appliance surface coating facilities.

Estimated Number of Respondents: 72.

Frequency of Response: Initially, occasionally, and semiannually.

Estimated Total Annual Hour Burden: 7,659.

Estimated Total Annual Cost: $8,000, which is comprised of no annualized capital/startup costs and operation and maintenance (O&M) costs of $8,000.

(2) NSPS for Synthetic Fiber Production Facilities (40 CFR part 60, Subpart HHH); Docket ID Number EPA-HQ-OECA-2009-0529; EPA ICR Number 1156.11; OMB Control Number 2060-0059; expiration date October 31, 2009.

Affected Entities: Entities potentially affected by this action are the owners or operators of synthetic fiber production facilities.

Abstract: The affected entities are subject to the General Provisions of the NSPS at 40 CFR part 60, subpart A and any changes, or additions to the General Provisions specified at 40 CFR part 60, subpart HHH.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 34 hours per response.

Respondents/Affected Entities: Synthetic fiber production facilities.

Estimated Number of Respondents:

Frequency of Response: Initially, occasionally, quarterly, and semiannually.

Estimated Total Annual Hour Burden: 1,859.

Estimated Total Annual Cost: $165,000, which is comprised of no annualized capital/startup costs and O&M costs of $165,000.

(3) NSPS for Fossil Fuel Fired Steam Generating Units (40 CFR part 60, subpart D); Docket ID Number EPA-HQ-OECA-2009-0524; EPA ICR Number 1052.09; OMB Control Number 2060-0026; expiration date January 31, 2010.

Affected Entities: Entities potentially affected by this action are the owners or operators of fossil fuel fired steam generating units.

Abstract: The affected entities are subject to the General Provisions of the NSPS at 40 CFR part 60, subpart A and any changes, or additions to the General Provisions specified at 40 CFR part 60, subpart D.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 47 hours per response.

Respondents/Affected Entities: Fossil fuel fired steam generating units.

Estimated Number of Respondents: 660.

Frequency of Response: Initially, occasionally, and semiannually.

Estimated Total Annual Hour Burden: 61,545.

Estimated Total Annual Cost: $9,900,000, which is comprised of no annualized capital/startup costs and O&M costs of $9,900,000.

(4) Federal Emission Guidelines for Existing Municipal Solid Waste Landfills (40 CFR part 62, subpart GGG); Docket ID Number EPA-HQ-OECA-2009-0536; EPA ICR Number 1893.05; OMB Control Number 2060-0430; expiration date January 31, 2010.

Affected Entities: Entities potentially affected by this action are the owners or operators of existing municipal solid waste landfills.

Abstract: This supporting statement addresses information collection activities imposed by the Federal Emission Guidelines for Existing Municipal Solid Waste Landfills (40 CFR part 62, subpart GGG).

The emission guidelines can be thought of as “model regulations” that a State agency can use in developing plans to implement the emission guidelines. If a State does not develop, adopt, and submit an approvable State plan, the Federal government must develop a plan to implement the emission guidelines. This ICR includes the burden for an affected entity whether it is ultimately regulated under a State or Federal plan.

Burden Statement: The annual public reporting and recordkeeping burden for this collection of information is estimated to average approximately 72 hours per response.

Respondents/Affected Entities: Existing municipal solid waste landfills.

Estimated Number of Respondents: 173.

Frequency of Response: Annually.

Estimated Total Annual Hour Burden: 12,456.

Estimated Total Annual Cost: $242,000, which is comprised of no annualized capital/startup costs and O&M costs of $242,000.

(5) NESHAP for the Secondary Lead Industry (40 CFR part 63, subpart X); Docket ID Number EPA-HQ-OECA-2009-0533; EPA ICR Number 1686.07; OMB Control Number 2060-0296; expiration date January 31, 2010.

Affected Entities: Entities potentially affected by this action are the owners or operators of secondary lead smelters.

Abstract: The affected entities are subject to the General Provisions of the NESHAP at 40 CFR part 63, subpart A, and any changes, or additions to the General Provisions specified at 40 CFR part 63, subpart X.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 229 hours per response.

Respondents/Affected Entities: Secondary lead smelters.

Estimated Number of Respondents: 23.

Frequency of Response: Initially, occasionally, and semiannually.

Estimated Total Annual Hour Burden: 16,034.

Estimated Total Annual Cost: $150,000, which is comprised of no annualized capital/startup costs and O&M costs of $150,000.

(6) NSPS for Industrial/Commercial/Institutional Steam Generating Units (40 CFR part 60, Subpart Db); Docket ID Number EPA-HQ-OECA-2009-0528; EPA ICR Number 1088.12; OMB Control Number 2060-0072; expiration date February 28, 2010.

Affected Entities: Entities potentially affected by this action are the owners or operators of industrial/commercial/institutional steam generating units.

Abstract: The affected entities are subject to the General Provisions of the NSPS at 40 CFR part 60, subpart A and any changes, or additions to the General Provisions specified at 40 CFR part 60, subpart Db.

Owners or operators of the affected facilities must make an initial notification, performance tests, and periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 200 hours per response.

Respondents/Affected Entities: Industrial/commercial/institutional steam generating units.

Estimated Number of Respondents: 1,230.

Frequency of Response: Initially, occasionally, quarterly and semiannually.

Estimated Total Annual Hour Burden: 591,389.

Estimated Total Annual Cost: $2,677,500, which is comprised of $900,000 in annualized capital/startup costs and O&M costs of $1,775,000.

(7) NESHAP Site Remediation (40 CFR part 63, Subpart GGGGG); Docket ID Number EPA-HQ-OECA-2009-0545; EPA ICR Number 2062.04; OMB Control Number 2060-0534; expiration date February 28, 2010.

Affected Entities: Entities potentially affected by this action are the owners or operators of site remediation facilities.

Abstract: The affected entities are subject to the General Provisions of the NESHAP at 40 CFR part 63, subpart A, and any changes, or additions to the General Provisions specified at 40 CFR part 63, subpart GGGGG.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 219 hours per response.

Respondents/Affected Entities: Site remediation facilities.

Estimated Number of Respondents: 286.

Frequency of Response: Initially, occasionally, and semiannually.

Estimated Total Annual Hour Burden: 125,027.

Estimated Total Annual Cost: $582,000, which is comprised of no annualized capital/startup costs and O&M costs of $582,000.

(8) NESHAP for Primary Magnesium Refining (40 CFR part 63, Subpart TTTTT); Docket ID Number EPA-HQ-OECA-2009-0522; EPA ICR Number 2098.05; OMB Control Number 2060-0536; expiration date March 31, 2010.

Affected Entities: Entities potentially affected by this action are the owners or operators of primary magnesium refining facilities.

Abstract: The affected entities are subject to the General Provisions of the NESHAP at 40 CFR part 63, subpart A, and any changes, or additions to the General Provisions specified at 40 CFR part 63, subpart TTTTT.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 153 hours per response.

Respondents/Affected Entities: Primary magnesium refining facilities.

Estimated Number of Respondents: 1.

Frequency of Response: Initially, occasionally, and semiannually.

Estimated Total Annual Hour Burden: 612.

Estimated Total Annual Cost: $1,000, which is comprised of no annualized capital/startup costs and O&M costs of $1,000.

(9) NSPS for Ammonium Sulfate Manufacturing Plants (40 CFR part 60, Subpart PP); Docket ID Number EPA-HQ-OECA-2009-0527; EPA ICR Number 1066.05; OMB Control Number 2060-0032; expiration date May 31, 2010.

Affected Entities: Entities potentially affected by this action are the owners or operators of ammonium sulfate manufacturing plants.

Abstract: The affected entities are subject to the General Provisions of the NSPS at 40 CFR part 60, subpart A and any changes, or additions to the General Provisions specified at 40 CFR part 60, subpart PP.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 62 hours per response.

Respondents/Affected Entities: Ammonium sulfate manufacturing plants.

Estimated Number of Respondents: 2.

Frequency of Response: Initially, occasionally, and semiannually.

Estimated Total Annual Hour Burden: 246.

Estimated Total Annual Cost: There are no annualized capital/startup costs or O&M costs associated with this ICR.

(10) NSPS for Wool Fiberglass Insulation Manufacturing Plants (40 CFR part 60, Subpart PPP, and 40 CFR part 60, Subpart NNN); Docket ID Number EPA-HQ-OECA-2009-0530; EPA ICR Number 1160.09; OMB Control Number 2060-0114; expiration date May 31, 2010.

Affected Entities: Entities potentially affected by this action are the owners or operators of wool fiberglass insulation manufacturing plants.

Abstract: The affected entities are subject to the General Provisions of the NSPS at 40 CFR part 60, subpart A and any changes, or additions to the General Provisions specified at 40 CFR part 60, subpart PPP.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 1,012 hours per response.

Respondents/Affected Entities: Wool fiberglass insulation manufacturing plants.

Estimated Number of Respondents: 61.

Frequency of Response: Initially, occasionally, and semiannually.

Estimated Total Annual Hour Burden: 18,216.

Estimated Total Annual Cost: $489,000, which is comprised of no annualized capital/startup costs and O&M costs of $489,000.

(11) NSPS for Commercial and Industrial Solid Waste Incineration Units (40 CFR part 60, Subpart CCCC); Docket ID Number EPA-HQ-OECA-2009-0537; EPA ICR Number 1926.05; OMB Control Number 2060-0450; expiration date May 31, 2010.

Affected Entities: Entities potentially affected by this action are the owners or operators of commercial and industrial solid waste incineration units.

Abstract: The affected entities are subject to the General Provisions of the NSPS at 40 CFR part 60, subpart A and any changes, or additions to the General Provisions specified at 40 CFR part 60, subpart CCCC.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 325 hours per response.

Respondents/Affected Entities: Commercial and industrial solid waste incineration units.

Estimated Number of Respondents: 30.

Frequency of Response: Initially, occasionally, semiannually and annually.

Estimated Total Annual Hour Burden: 16,899.

Estimated Total Annual Cost: $18,000, which is comprised of $13,000, in annualized capital/startup costs and O&M costs of $5,000.

(12) NSPS for Nitric Acid Plants (40 CFR part 60, Subpart G); Docket ID Number EPA-HQ-OECA-2009-0525; EPA ICR Number 1056.10; OMB Control Number 2060-0019; expiration date May 31, 2010.

Affected Entities: Entities potentially affected by this action are the owners or operators of nitric acid plants.

Abstract: The affected entities are subject to the General Provisions of the NSPS at 40 CFR part 60, subpart A and any changes, or additions to the General Provisions specified at 40 CFR part 60, subpart G.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 25 hours per response.

Respondents/Affected Entities: Nitric acid plants.

Estimated Number of Respondents: 24.

Frequency of Response: Initially, occasionally, and semiannually.

Estimated Total Annual Hour Burden: 1,290.

Estimated Total Annual Cost: $2,468,000, which is comprised of $68,000, in annualized capital/startup costs and O&M costs of $2,400,000.

(13) NESHAP for Phosphoric Acid Manufacturing and Phosphate Fertilizers Production (40 CFR part 63, Subparts AA and BB); Docket ID Number EPA-HQ-OECA-2009-0535; EPA ICR Number 1790.05; OMB Control Number 2060-0361; expiration date June 30, 2010.

Affected Entities: Entities potentially affected by this action are the owners or operators of phosphoric acid manufacturing and phosphate fertilizers production facilities.

Abstract: The affected entities are subject to the General Provisions of the NESHAP at 40 CFR part 63, subpart A, and any changes, or additions to the General Provisions specified at 40 CFR part 63, subpart AA and BB.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 18 hours per response.

Respondents/Affected Entities: Phosphoric acid manufacturing and phosphate fertilizers production facilities.

Estimated Number of Respondents: 12.

Frequency of Response: Initially, occasionally, semiannually and annually.

Estimated Total Annual Hour Burden: 1,542.

Estimated Total Annual Cost: $11,000, which is comprised of no annualized capital/startup costs and O&M costs of $11,000.

(14) Emission Guidelines for Commercial and Industrial Solid Waste Incineration Units (40 CFR part 60, subpart DDDD); Docket ID Number EPA-HQ-OECA-2009-0542; EPA ICR Number 1927.05; OMB Control Number 2060-0451; expiration date June 30, 2010.

Affected Entities: Entities potentially affected by this action are the owners or operators of commercial and industrial solid waste incineration units.

Abstract: This supporting statement addresses information collection activities imposed by the Emission Guidelines for Commercial and Industrial Solid Waste Incineration Units (40 CFR part 60, subpart DDDD).

The emission guidelines can be thought of as model regulations that a State agency can use in developing plans to implement the emission guidelines. If a State does not develop, adopt, and submit an approvable State plan, the Federal government must develop a plan to implement the emission guidelines. This ICR includes the burden for an affected entity whether it is ultimately regulated under a State or Federal plan.

Burden Statement: The annual public reporting and recordkeeping burden for this collection of information is estimated to average approximately 262 hours per response.

Respondents/Affected Entities: Commercial and industrial solid waste incineration units.

Estimated Number of Respondents: 97.

Frequency of Response: Initially, occasionally, semiannually and annually.

Estimated Total Annual Hour Burden: 72,423.

Estimated Total Annual Cost: $99,000, which is comprised of $87,000, in annualized capital/startup costs and O&M costs of $12,000.

(15) NESHAP for Halogenated Solvent Cleaning (40 CFR part 63, subpart T); Docket ID Number EPA-HQ-OECA-2009-0531; EPA ICR Number 1652.07; OMB Control Number 2060-0273; expiration date June 30, 2010.

Affected Entities: Entities potentially affected by this action are the owners or operators of halogenated solvent cleaning facilities.

Abstract: The affected entities are subject to the General Provisions of the NESHAP at 40 CFR part 63, subpart A, and any changes, or additions to the General Provisions specified at 40 CFR part 63, subpart T.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 14 hours per response.

Respondents/Affected Entities: Halogenated solvent cleaning facilities.

Estimated Number of Respondents: 1,431.

Frequency of Response: Initially, occasionally, quarterly, semiannually and annually.

Estimated Total Annual Hour Burden: 41,035.

Estimated Total Annual Cost: $1,015,000, which is comprised of no annualized capital/startup costs and O&M costs of $1,015,000.

(16) NESHAP for Magnetic Tape Manufacturing Operations (40 CFR part 63, Subpart EE); Docket ID Number EPA-HQ-OECA-2009-0532; EPA ICR Number 1678.07; OMB Control Number 2060-0326; expiration date June 30, 2010.

Affected Entities: Entities potentially affected by this action are the owners or operators of magnetic tape manufacturing operations.

Abstract: The affected entities are subject to the General Provisions of the NESHAP at 40 CFR part 63, subpart A, and any changes, or additions to the General Provisions specified at 40 CFR part 63, subpart EE.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 200 hours per response.

Respondents/Affected Entities: Magnetic tape manufacturing operations.

Estimated Number of Respondents: 6.

Frequency of Response: Initially, occasionally, quarterly, semiannually and annually.

Estimated Total Annual Hour Burden: 3,395.

Estimated Total Annual Cost: $47,000, which is comprised of $11,000, in annualized capital/startup costs and O&M costs of $36,000.

(17) NESHAP for Organic Liquids Distribution (40 CFR part 63, Subpart EEEE); Docket ID Number EPA-HQ-OECA-2009-0543; EPA ICR Number 1963.07; OMB Control Number 2060-0539; expiration date July 31, 2010.

Affected Entities: Entities potentially affected by this action are the owners or operators of organic liquids distribution facilities.

Abstract: The affected entities are subject to the General Provisions of the NESHAP at 40 CFR part 63, subpart A, and any changes, or additions to the General Provisions specified at 40 CFR part 63, subpart EEEE.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 197 hours per response.

Respondents/Affected Entities: Organic liquids distribution facilities.

Estimated Number of Respondents: 197.

Frequency of Response: Initially, occasionally, semiannually and annually.

Estimated Total Annual Hour Burden: 137,170.

Estimated Total Annual Cost: $1,800,000, which is comprised of $264,000, in annualized capital/startup costs and O&M costs of $1,536,000.

(18) NESHAP for Off-Site Waste and Recovery Operations (40 CFR part 63, Subpart DD); Docket ID Number EPA-HQ-OECA-2009-0534; EPA ICR Number 1717.07; OMB Control Number 2060-0313; expiration date July 31, 2010.

Affected Entities: Entities potentially affected by this action are the owners or operators of off-site waste and recovery operations.

Abstract: The affected entities are subject to the General Provisions of the NESHAP at 40 CFR part 63, subpart A, and any changes, or additions to the General Provisions specified at 40 CFR part 63, subpart DD.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 218 hours per response.

Respondents/Affected Entities: Off-site waste and recovery operations.

Estimated Number of Respondents: 236.

Frequency of Response: Initially, occasionally, and semiannually.

Estimated Total Annual Hour Burden: 154,306.

Estimated Total Annual Cost: $5,000, which is comprised of no annualized capital/startup costs and O&M costs of $5,000.

(19) NSPS for Incinerators (40 CFR part 60, Subpart E); Docket ID Number EPA-HQ-OECA-2009-0526; EPA ICR Number 1058.10; OMB Control Number 2060-0040; expiration date July 31, 2010.

Affected Entities: Entities potentially affected by this action are the owners or operators of incinerators.

Abstract: The affected entities are subject to the General Provisions of the NSPS at 40 CFR part 60, subpart A and any changes, or additions to the General Provisions specified at 40 CFR part 60, subpart E.

Owners or operators of the affected facilities must make an initial notification, performance tests, periodic reports, and maintain records of the occurrence and duration of any startup, shutdown, or malfunction in the operation of an affected facility, or any period during which the monitoring system is inoperative. Reports, at a minimum, are required semiannually.

Burden Statement: The annual public reporting and recordkeeping burden for this collection of information is estimated to average approximately 51 hours per response.

Respondents/Affected Entities: Incinerators.

Estimated Number of Respondents: 82.

Frequency of Response: Initially and occasionally.

Estimated Total Annual Hour Burden: 8,393.

Estimated Total Annual Cost: $205,000, which is comprised of no annualized capital/startup costs and O&M costs of $205,000.

(20) NESHAP for Stationary Combustion Turbines (40 CFR part 63, Subpart YYYY); Docket ID Number EPA-HQ-OECA-2009-0544; EPA ICR Number 1967.04; OMB Control Number 2060-0540; expiration date September 30, 2010.

Affected Entities: Entities potentially affected by this action are the owners or operators of stationary combustion turbines.

Abstract: The affected entities are subject to the General Provisions of the NESHAP at 40 CFR part 63, subpart A, and any changes, or additions to the General Provisions specified at 40 CFR part 63, subpart YYYY.

Owners or operators of the affected facilities must submit a one-time-only report of any physical or operational changes, initial performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately nine hours per response.

Respondents/Affected Entities: Stationary combustion turbines.

Estimated Number of Respondents: 132.

Frequency of Response: Semiannually.

Estimated Total Annual Hour Burden: 2,448.

Estimated Total Annual Cost: $8,000, which is comprised of $8,000 in annualized capital/startup costs and no O&M costs.

EPA will consider any comments received and may amend any of the above ICRs, as appropriate. Then the final ICR packages will be submitted to OMB for review and approval pursuant to 5 CFR 1320.12. At that time, EPA will issue one or more Federal Register notices pursuant to 5 CFR 1320.5(a)(1)(iv) to announce the submission of the ICR(s) to OMB and the opportunity to submit additional comments to OMB. If you have any questions about any of the above ICRs or the approval process, please contact the person listed under FOR FURTHER INFORMATION CONTACT.

Dated: July 22, 2009.
Lisa C. Lund,
Director, Office of Compliance.

[FR Doc. E9-18203 Filed 7-29-09; 8:45 am]

BILLING CODE 6560-50-P